DEPARTMENT OF HOMELAND SECURITY

Coast Guard

33 CFR Part 117

[Docket No. USCG-2014-0449]

Drawbridge Operation Regulation; Atlantic Intracoastal Waterway (AIWW), Wrightsville Beach, NC, and Northeast Cape Fear River, Wilmington, NC

AGENCY: Coast Guard, DHS.

ACTION: Notice of deviation from drawbridge regulations.

SUMMARY: The Coast Guard has issued a temporary deviation from the operating schedules that govern two North Carolina Department of Transportation (NCDOT) drawbridges: The S.R. 74 Bridge, across the AIWW, mile 283.1, at Wrightsville Beach, NC, and the Isabel S. Holmes Bridge across the Northeast Cape Fear River, mile 1.0, at Wilmington, NC. The deviation is necessary to accommodate the annual Beach2Battleship Iron and Half Iron Distance Triathlons. This deviation allows the bridges to remain in the closed position during the races.

DATES: This deviation is effective from 7 a.m. through 6 p.m. on Saturday, October 25, 2014.

ADDRESSES: The docket for this deviation [USCG-2014-0449] is available at http://www.regulations.gov. Type the docket number in the “SEARCH” box and click “SEARCH”. Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Jim Rousseau, Bridge Management Specialist, Coast Guard; telephone 757-398-6557, email James.L.Rousseau2@uscg.mil. If you have questions on viewing the docket, call Cheryl Collins, Program Manager, Docket Operations, telephone 202-366-9826.

SUPPLEMENTARY INFORMATION: AAA Series Director of SetUp Events, on behalf of NCDOT, has requested a temporary deviation from the current operating regulations for the S.R. 74 Bridge, across AIWW, mile 283.1, at Wrightsville Beach, NC and the Isabel S. Holmes Bridge across the Northeast Cape Fear River, mile 1.0, at Wilmington, NC. The requested deviation is to accommodate the annual Beach2Battleship Iron and Half-Iron Distance Triathlons scheduled for Saturday, October 25, 2014. To facilitate these events, the draw of the S.R. 74 Bridge will be maintained in the closed position from 7 a.m. to 11 a.m. and the draw of the Isabel S. Holmes Bridge will be maintained in the closed position from 10 a.m. to 6 p.m. Extended closure times were requested for the event beyond the times published in the current regulations based on tide dependant races.

The S.R. 74 Bridge is a double-leaf bascule drawbridge with a vertical clearance of 20 feet at mean high water in the closed position, the current operating schedule is set out in 33 CFR 117.821(a)(4). During the month of October, the bridge is required to open on the hour from 7 a.m. to 7 p.m., except 7 a.m. to 10:30 a.m. on the last Saturday of October of every year when the draw need not open for vessels due to annual races.

The Isabel S. Holmes Bridge is a double-leaf bascule drawbridge with a vertical clearance of 40 feet at mean high water in the closed position. The current operating schedule is set out in 33 CFR 117.829(a): The regulation requires that during the month of October, from noon to 11:59 p.m. on the last Saturday of October of every year, that the draw need not open for vessels, to accommodate annual races. Most waterway traffic for both bridges consists of recreational boats with a few barges and tugs in the daytime.

Vessels able to pass under these bridges in the closed position may do so at any time and are advised to proceed with caution. The bridges will be able to open for emergencies as soon as safely possible. There are no alternate routes available to vessels transiting these waterways. These races have been an annual event; therefore, local waterway users should be familiar with these closures. The Coast Guard will also inform additional waterway users through our Local and Broadcast Notices to Mariners of the closure periods for the bridge so that vessels can arrange their transits to minimize any impacts caused by the temporary deviation.

In accordance with 33 CFR 117.35(e), the drawbridges must return to their regular operating schedules immediately at the end of the effective period of this temporary deviation. This deviation from the operating regulations is authorized under 33 CFR 117.35.

Dated: June 4, 2014.
Waverly W. Gregory, Jr.,
Bridge Program Manager,Fifth Coast Guard District.

[FR Doc. 2014-14060 Filed 6-13-14; 8:45 am]

BILLING CODE 9110-04-P